DEPARTMENT OF THE INTERIOR

Bureau of Land Management

[CO-100-04-1990-00]

Emergency Route Restriction Order Within the Upper Hughes Creek Allotment (#4410), Moffat County, CO

AGENCY: Bureau of Land Management, Interior.

ACTION: Notice of emergency closure.

SUMMARY: This order closes two unauthorized construction routes on public lands to motorized use in the areas within the Upper Hughes Creek Allotment, Moffat County, Colorado. This order does not modify the current Off Highway Vehicle (OHV) classification of “open” in this area. The order is an emergency measure that prohibits the use of any motorized wheeled vehicles on the identified routes.

EFFECTIVE DATE: February 22, 2005.

ADDRESSES: Maps of the trespass roads will be available at the Little Snake Field Office, 455 Emerson Street, Craig, Colorado.

FOR FURTHER INFORMATION CONTACT: John E. Husband, Field Manager, Little Snake Field Office, 455 Emerson Street, Craig, Colorado 81625; Telephone (970) 826-5000.

SUPPLEMENTARY INFORMATION: This order is issued under the authority of 43 CFR 8341.2, 43 CFR 8364.1, and 43 CFR 9268.3(d)(1) as an emergency measure. This action qualifies as a Categorical Exclusion under 516 DM 6, Appendix 5.4, Number: _G_.(_3_) and has been considered in Categorical Exclusion CO-100-2005-001CX, which was signed on December 9, 2004. Further investigation is proceeding and plans for reclamation of damaged resources are being developed.

This order affects public lands in Moffat County, Colorado, thus described:

(1) Public Lands within: T.4N., R.96W., Sections 15 and 22, Sixth Principal Meridian;

(2) Approximately: 3 acres of public lands.

This restriction order shall be effective on February 22, 2005, and shall remain in effect until resource reclamation objectives have been achieved and the order is then rescinded by the Authorized Officer.

During the summer of 2004, an unknown person used heavy construction equipment to widen an existing trail and build a new route on public lands that accommodates full size pickup truck vehicle use. Use of these routes by wheeled motorized vehicles has the potential to cause considerable adverse effects to soil, water, and cultural resources.

The designated area affected by this order will be posted with appropriate regulatory signs. Persons who are exempt from restriction contained in this notice include:

1. Any Federal, State, or local officers engaged in fire, emergency, and law enforcement activities.

2. Persons or agencies holding a special use permit or right-of-way for access to exercise their permit within the restricted area, for purposes related to access for maintenance and operation of authorized facilities, and provided such motorized use is limited to the routes specifically identified in the special use permit or right-of-way.

3. Grazing permittees holding a valid grazing permit for the restricted area. Such permittees will contact the Authorized Officer, when possible, prior to motorized vehicle use of the route(s) for grazing situations. The Authorized Officer will issue verbal instructions as needed to avoid the areas of concern within the designated area. All verbal instructions will be followed by the grazing permittee. Emergency situations (e.g. recovery of sick or injured animal(s) or emergency facility maintenance) will be completed with as little resource damage as possible. If prior notification is not possible, grazing permittees will notify the Authorized Officer, within 10 working days, of actions taken in a letter describing the location and reason for the action. BLM mitigation measures related to the soil, water, and/or cultural resource will be developed to address any damages caused by the emergency situation.

Penalties: Violations of this restriction order are punishable by fines as specified in 43 CFR 8360.0-7, and 18 U.S.C. 3571 of no more than $100,000 and/or imprisonment not to exceed 12 months.

John E. Husband,
Field Manager, Little Snake Field Office.

[FR Doc. 05-3300 Filed 2-18-05; 8:45 am]

BILLING CODE 4310-JB-P